DEPARTMENT OF HEALTH AND HUMAN SERVICES

National Institutes of Health

Submission for OMB Review; 30-Day Comment Request; Collection of Grant and Contract Data That May Be of Interest to Historically Black Colleges and Universities (HBCUs) and Small Businesses; (Office of the Director)

AGENCY: National Institutes of Health, HHS.

ACTION: Notice.

SUMMARY: In compliance with the Paperwork Reduction Act of 1995, the National Institutes of Health (NIH), Office of the Director, Office of Acquisitions and Logistics Management (OALM), Small Business Program Office (SBPO), has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Rachel Kenlaw, Program Analyst, NIH, Office of the Director, Office of Acquisitions and Logistics Management, Small Business Program Office, 6100 Executive Blvd., Suite 6E01G, Rockville, MD 20852, or call non-toll-free number (301) 451-6827 or Email your request, including your address, to: Rachel.Kenlaw@nih.gov.

SUPPLEMENTARY INFORMATION: This proposed information collection was previously published in the Federal Register on October 30, 2019, page 23681 (84 FR 23681) and allowed 60 days for public comment. No public comments were received. The purpose of this notice is to allow an additional 30 days for public comment.

The National Institutes of Health, Office of the Director, Office of Acquisitions and Logistics Management, Small Business Program Office, may not conduct or sponsor, and the respondent is not required to respond to, an information collection that has been extended, revised, or implemented on or after October 1, 1995 unless it displays a currently valid OMB control number.

In compliance with Section 3507(a)(1)(D) of the Paperwork Reduction Act of 1995, the National Institutes of Health (NIH) has submitted to the Office of Management and Budget (OMB) a request for review and approval of the information collection listed below.

Proposed Collection: Collection of grant and contract data that may be of interest to Historically Black Colleges and Universities (HBCUs) and small businesses, 0925 NEW, exp., date XX/XX/XXXX, Office of the Director, Office of Acquisitions and Logistics Management, Small Business Program Office, National Institutes of Health.

Need and Use of Information Collection: Presidential Executive Order 13779, The White House Initiative to Promote Excellence and Innovation at HBCUs mandates agencies to assist in strengthening HBCU's ability for equitable participation in Federal programs and explore new ways to improve the relationship between the Federal Government and HBCUs. This initiative establishes how each agency intends to increase the capacity of HBCUs to compete effectively for federal grants, contracts, and cooperative agreements.

The Path to Excellence and Innovation (PEI) is a comprehensive program to increase the capacity of HBCUs as they pursue funding opportunities at the NIH. The PEI provides a platform to increase transparency between HBCUs and the NIH by promoting outreach events and training opportunities while providing technical assistance. Through this initiative the SBPO will assist HBCUs in identifying NIH contracts, grants, and other funding programs to increase their institutional biomedical research capacity. Currently, there are six HBCU participants and each selected a minimum of one small business teaming partner to pursue NIH funding opportunities with.

OMB approval is requested for 3 years. There are no costs to respondents other than their time. The total estimated annualized burden hours are 43.

Estimated Annualized Burden Hours
Form name | Type of respondents | Number of respondents | Number of responses per respondent | Average burden per response (in hours) | Total annual burden hours
HBCU Pre-Solicitation Portal for Contracts and Grants | Private Sector | 13 | 10 | 20/60 | 43
Total |  |  | 130 |  | 43

Dated: January 25, 2020.
Lawrence A. Tabak,
Principal Deputy Director, National Institutes of Health.

[FR Doc. 2020-01863 Filed 1-30-20; 8:45 am]

BILLING CODE 4140-01-P